DEPARTMENT OF THE INTERIOR

National Park Service

Notice of Availability of a Record of Decision on the Final Environmental Impact Statement for the Wilderness Study, Apostle Islands National Lakeshore

AGENCY: National Park Service, Department of the Interior.

ACTION: Notice of Availability of a Record of Decision on the Final Environmental Impact Statement for the Wilderness Study, Apostle Islands National Lakeshore.

SUMMARY: Pursuant to § 102(2)(C) of the National Environmental Policy Act of 1969, P.L. 91-190, 83 Stat. 852, 853, as codified as amended at 42 U.S.C. § 4332(2)(C), the National Park Service (NPS) announces the availability of the record of decision for the wilderness study, Apostle Islands National Lakeshore, Wisconsin. On May 5 the Director, Midwest Region, approved the record of decision for the wilderness study. Specifically, the NPS has selected the preferred alternative (alternative C) as described in the Final Wilderness Study/Environmental Impact Statement. Under the selected action (alternative C), the NPS proposes that 33,500 acres of the park's 42,160-acre land base (80%) be permanently protected as wilderness. Basswood, Sand, and Long Islands would not be proposed for wilderness designation.

The selected action and three other alternatives were analyzed in the draft and final environmental impact statements. The full range of foreseeable environmental consequences was assessed.

Among the alternatives the NPS considered, the selected action best protects the park's natural and cultural resources, and most of its wilderness resource, while providing a reasonable level of administrative flexibility for addressing future visitor and management needs. It also ensures that a range of quality recreational and educational experiences will continue to be provided on the islands, meet NPS goals for managing the park, and meet national environmental policy goals. The preferred alternative will not result in the impairment of resources and values.

The record of decision includes a statement of the decision made, synopses of other alternatives considered, the basis for the decision, the rationale for why the selected action is the environmentally preferred alternative, a finding on impairment of park resources and values, and an overview of public involvement in the decisionmaking process.

FOR FURTHER INFORMATION CONTACT: Mr. Jim Nepstad, Wilderness Study Coordinator, Apostle Islands National Lakeshore, Route 1, Box 4, Bayfield, Wisconsin 54814, or by calling (715) 779-3198, extension 102.

SUPPLEMENTARY INFORMATION: Copies of the record of decision may be obtained from the contact listed above or may be viewed online at http://www.nps.gov/apis/wstudy.htm. With the concurrence of the NPS Director, the NPS wilderness proposal will be sent to the Assistant Secretary of Fish and Wildlife and Parks and the Secretary of the Interior, who may revise or approve the proposal. The Secretary may then forward a wilderness recommendation to the President, who in turn may approve or revise the recommendation and then transmit the recommendation to Congress for consideration.

Dated: May 5, 2004.
Ernest Quintana,
Regional Director, Midwest Region.

[FR Doc. 04-20022 Filed 9-2-04; 8:45 am]

BILLING CODE 4312-97-P